DEPARTMENT OF JUSTICE

Notice of Lodging of Two Consent Decrees

Notice is hereby given that on October 23, 2007, two proposed Consent Decrees were lodged with the United States District Court for the Central District of California. One Consent Decree was lodged in the case United States v. Andruss Family Trust, et al., Civil Action No. 2:07-cv-06873 FMC (C.D. Cal.), and another Consent Decree was lodged in the case United States v. Abercrombie, et al., Civil Action No. 2:07-cv-06870 ABC (C.D. Cal.).

In both cases the United States of America (“United States”), on behalf of the Administrator of the United States Environmental Protection Agency (“EPA”), and the California Department of Toxic Substances Control (“Department”), filed a complaint pursuant to Section 107 of the Comprehensive Environmental Response, Compensation, and Liability Act of 1980, as amended (“CERCLA”), 42 U.S.C. 9607, seeking reimbursement of response costs incurred or to be incurred for response actions taken in connection with the release or threatened release of hazardous substances at the South El Monte Operable Unit of the San Gabriel Valley Area 1 Superfund Site in South El Monte, Los Angeles County, California (the “South El Monte O.U.”).

Under the proposed Consent Decree in Abercrombie, 26 potentially responsible parties with respect to the South El Monte O.U. will pay a total of about $3.2 million (collectively). The settlement amounts are based on each settling defendant's ability to pay. In exchange for the payment, the plaintiffs covenant not to sue each settling defendant under Section 106 or 107 of CERCLA with respect to the South El Monte O.U.

Under the proposed Consent Decree in Andruss, there are 13 settling defendants. In exchange for prior payments of over $5.8 million that have been made by these 13 settling defendants in reimbursement of costs incurred with respect to the interim remedy for the South El Monte O.U., the plaintiffs covenant not to sue each settling defendant under Section 106 or 107 of CERCLA with respect to the interim remedy for volatile organic compounds. In addition, 10 of these 13 parties will also pay $3,350,000 to EPA and $100,000 to DTSC. In exchange the plaintiffs covenant not to sue the 10 settling defendants under Section 106 or 107 of CERCLA with respect to the interim remedy for perchlorate.

The Department of Justice will receive for a period of thirty (30) days from the date of this publication comments relating to the proposed Consent Decrees. Comments should be addressed to the Assistant Attorney General, Environment and Natural Resources Division, and either e-mailed to pubcomment-ees.enrd@usdoj.gov or mailed to P.O. Box 7611, U.S. Department of Justice, Washington, DC 20044-7611, and should refer to either or both of these cases: United States v. Andruss Family Trust, et al., (C.D. Cal.), D.J. Ref. 90-11-2-09121/3; or United States v. Abercrombie, et al., (C.D. Cal.), D.J. Ref. 90-11-2-09121/2.

The proposed Consent Decrees may be examined at the Office of the United States Attorney, 450 Golden Gate Avenue, San Francisco, California 94102. During the public comment period, the Consent Decrees may also be examined on the following Department of Justice Web site, http://www.usdoj.gov/enrd/Consent_Decrees.html. A copy of the proposed Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check payable to the “U.S. Treasury” or, if by e-mail or fax, forward a check in that amount to the Consent Decree Library at the stated address, in the following amounts (25 cents per page reproduction cost): $13.75 for the Consent Decree in Abercrombie or $9.75 for the Consent Decree in Andruss (without attachments).

Henry S. Friedman,
Assistant Section Chief, Environmental Enforcement Section, Environment and Natural Resources Division.

[FR Doc. 07-5582 Filed 11-7-07; 8:45 am]

BILLING CODE 4410-15-M